DEPARTMENT OF COMMERCE

National Telecommunications and Information Administration

[Docket No. 100504211-0211-01]

Notice of a Grant With the Public Broadcasting Service

AGENCY: National Telecommunications and Information Administration, U.S. Department of Commerce.

ACTION: Notice of a grant to the Public Broadcasting Service.

SUMMARY: The National Telecommunications and Information Administration (NTIA) announces its intent to award a grant to the Public Broadcasting Service (PBS), a private, nonprofit corporation whose members are America's public television stations. The PBS mission is to acquire and distribute quality children's, cultural, educational, history, nature, news, public affairs and science television programming and related services to 356 noncommercial stations serving all 50 states and the U.S. territories through a satellite interconnection system. This grant will support development of the Commercial Mobile Alert System (CMAS), a national system to distribute emergency alert messages to the American public via commercial mobile service (CMS) devices (e.g., cellular telephones).

FOR FURTHER INFORMATION CONTACT: William Cooperman, Director, Public Broadcasting Division, telephone: (202) 482-5802; Fax: (202) 482-2156; e-mail: wcooperman@ntia.doc.gov.

SUPPLEMENTARY INFORMATION: Statutory Authority: Section 3010 of the Deficit Reduction Act of 2005, Public Law 109-171, 120 Stat. 4, 26-27 (Feb. 8, 2006) (establishing the National Alert and Tsunami Warning Program); Section 606 of the SAFE Port Act, Public Law 109-347, 120 Stat. 1884, 1941 (Oct. 13, 2006) (directing NTIA to compensate public television station licensees or permittees for reasonable costs incurred in complying with the requirements to support the distribution of geographically targeted alerts by commercial mobile service providers).

Background

Section 3010 of the Deficit Reduction Act of 2005 directed NTIA to establish a National Alert and Tsunami Warning Program and provided up to $156 million during fiscal years 2007 through 2012 from the Digital Television Transition and Public Safety Act fund to pay for this effort. NTIA was directed to implement a unified national alert system capable of alerting the public, on a national, regional, or local basis to emergency situations by using a variety of communications technologies.

Congress subsequently enacted the WARN Act, Title VI of the SAFE Port Act, directing NTIA's expenditure of some of the funds provided under Section 3010 of the Deficit Reduction Act. The WARN Act set forth requirements to enable alerting capability for commercial mobile service providers that voluntarily elect to transmit emergency alerts as part of a national emergency alerting system. NTIA was directed to fund certain aspects of those activities in section 606 of the WARN Act, including compensating public television broadcasters for their reasonable costs to comply with the requirements imposed by section 602(c) of the WARN Act. Section 602(c) directed the Federal Communications Commission (FCC) to adopt regulations to require public television broadcasters to install necessary equipment and technologies on, or as part of, any broadcast television digital signal transmitter to enable the distribution of geographically targeted alerts by commercial mobile service providers that have elected to transmit emergency alerts.

On July 8, 2008, the FCC adopted rules requiring public television stations to install equipment and technologies to enable them to distribute geo-targeted emergency alerts to participating CMS providers. See The Commercial Mobile Alert System, Second Report and Order and Further Notice of Proposed Rulemaking (Second Report), PS Dkt. No. 07-087, 23 F.C.C. Rcd. 10765 (July 8, 2008). The Second Report specified the functionality that must be built at the nation's public television stations and at a central collector to permit the public broadcasting system to provide a redundant pathway as one part of a national alerting system. The Second Report identified five types of equipment (Geo-targeting Systems, Groomers, Data Receivers, PBS Equipment, and Back-up Power Equipment) recommended by the Association of Public Television Stations (APTS) for this purpose. The Second Report also acknowledged that PBS or a similarly situated entity would provide the interface feed between the Alert Gateway, the national emergency message aggregator through which emergency messages would be disseminated, and the public broadcast television stations.

NTIA received an unsolicited proposal from PBS, which seeks funding on behalf of all affected public television stations as well as for elements of CMAS to be performed by PBS. APTS, an organization representing America's public television stations, has endorsed the proposal. The PBS proposal included the elements supported by APTS in its FCC filings and discussed by the FCC in the Second Report. NTIA has reviewed the PBS proposal pursuant to Department of Commerce policy and intends to award PBS a non-competitive grant under the authority of the Deficit Reduction Act of 2005 and the WARN Act to cover the costs of equipment necessary for public television stations to install equipment and systems to comply with the FCC requirements of the Second Report. PBS is uniquely qualified and best able to administer this award because it manages the national public television interconnection system, which will be the redundant pathway used by the public television stations for this national emergency alerting system; it has the demonstrated ability to work collaboratively with the public television stations to implement the project in the limited timeframe required by the FCC; and its management has the technical skills to implement and administer the project.

Dated: May 4, 2010.
Bernadette McGuire-Rivera,
Associate Administrator, Office of Telecommunications and Information Applications.

[FR Doc. 2010-10923 Filed 5-7-10; 8:45 am]

BILLING CODE 3510-60-P